DEPARTMENT OF ENERGY

Federal Energy Regulatory Commission

[Docket Nos. CP15-554-009 and CP15-555-007]

Atlantic Coast Pipeline, LLC, Eastern Gas Transmission and Storage, Inc.; Notice of Availability of the Final Supplemental Environmental Impact Statement for the Proposed Atlantic Coast Pipeline Restoration Project and Supply Header Restoration Project

The staff of the Federal Energy Regulatory Commission (FERC or Commission) has prepared a final supplemental environmental impact statement (sEIS) for the Atlantic Coast Pipeline, LLC's (Atlantic) Atlantic Coast Pipeline Restoration Project, and Eastern Gas Transmission and Storage, Inc.'s (EGTS) Supply Header Restoration Project (Restoration Projects), in the above-referenced dockets. Atlantic and EGTS request authorization to implement the Restoration Projects in order to stabilize lands affected by previous construction efforts for the Atlantic Coast Pipeline and Supply Header Project, respectively, and to facilitate cessation of all project-related activities. Implementation of the plans is proposed because Atlantic and EGTS have cancelled their respective projects and do not intend to complete them.

The final sEIS assesses the potential impacts that would result from the Restoration Projects, in accordance with the requirements of the National Environmental Policy Act (NEPA).¹ The FERC staff concludes that the proposed actions, with the additional mitigation measures recommended in the sEIS, would continue to avoid or reduce impacts to less than significant levels, with the exception of climate change impacts, for which FERC staff is unable to determine significance.

¹ The construction and operation impacts of the then-proposed Atlantic Coast Pipeline and Supply Header Project were evaluated in a final EIS, which was issued by the Commission on July 21, 2017, in Docket Nos. CP15-554-00, CP15-554-001; and CP15-555-000.

The U.S. Department of Agriculture's Forest Service and the U.S. Department of the Interior's Fish and Wildlife Service participated as cooperating agencies in the preparation of the sEIS. Cooperating agencies have jurisdiction by law or special expertise with respect to resources potentially affected by the proposal and participate in the NEPA analysis.

The sEIS addresses the potential environmental effects of the following activities:

• Atlantic proposes to leave all installed pipeline in place (approximately 31.4 miles of the pipeline right-of-way), restore lands that were cleared and graded (approximately 82.7 miles of the pipeline right-of-way), and leave felled trees in place in areas where trees have not yet been cleared (approximately 25.2 miles of the pipeline right-of-way). For aboveground facilities, Atlantic proposes to restore the sites and manage the disposition of the materials and land through an investment recovery process. Workspace for these activities would occur in West Virginia, Virginia, and North Carolina.

• EGTS proposes to leave all installed pipeline in place (approximately 11.7 miles), leave approximately 0.13 mile of felled trees in place, and complete final restoration of approximately 9 miles of the pipeline right-of-way that EGTS previously cleared and/or graded. EGTS proposes to stabilize all aboveground facility sites and prepare assets for long term preservation. Workspace for these activities would occur in Pennsylvania and West Virginia.

The Commission mailed a copy of the Notice of Availability for the final sEIS to federal, state, and local government representatives and agencies; elected officials; environmental and public interest groups; Native American tribes; potentially affected landowners and other interested individuals and groups; and newspapers and libraries in the project areas. The final sEIS is only available in electronic format. It may be viewed and downloaded from the FERC's website (www.ferc.gov), on the natural gas environmental documents page (https://www.ferc.gov/industries-data/natural-gas/environment/environmental-documents). In addition, the sEIS may be accessed by using the eLibrary link on the FERC's website. Click on the eLibrary link (https://elibrary.ferc.gov/eLibrary/search), select “General Search,” and enter the docket number in the “Docket Number” field, excluding the last three digits (i.e., CP15-554 or CP15-555). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets.

This can reduce the amount of time you spend researching proceedings by automatically providing you with notification of these filings, document summaries, and direct links to the documents. Go to https://www.ferc.gov/ferc-online/overview to register for eSubscription.

Dated: December 17, 2021.
Kimberly D. Bose,
Secretary.

[FR Doc. 2021-27872 Filed 12-22-21; 8:45 am]

BILLING CODE 6717-01-P